DEPARTMENT OF COMMERCE

Foreign-Trade Zones Board

[B-13-2026]

Foreign-Trade Zone (FTZ) 110, Notification of Proposed Production Activity; Intel Foundry Corporation; (Semiconductor Products); Rio Rancho and Albuquerque, New Mexico

Intel Foundry Corporation submitted a notification of proposed production activity to the FTZ Board (the Board) for its facilities in Rio Rancho and Albuquerque, New Mexico within Subzone 110E. The notification conforming to the requirements of the Board's regulations (15 CFR 400.22) was received on January 29, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: photomasks; semiconductor transducers; electronic integrated circuit processors; electronic integrated optical circuits; electronic integrated circuit memories; electronic integrated circuit amplifiers; electronic integrated interposer circuits; electronic integrated circuits (not yet determined to be processor or memory); printed circuits; and electronic integrated circuits (duty-free).

The proposed foreign-status materials/components include: corundum; methane (liquid and gas); chlorine; argon; oxygen; hydrogen; helium; xenon; nitrogen; hydrochloric acid; hydrogen chloride; sulfuric acid; nitric acid; phosphoric acid; hydrofluoric acid; silicate reagent; hydrogen bromide; carbon dioxide; silica; carbon monoxide; nitrous oxide; nitric oxide; sulfur dioxide; boron trichloride; dichlorosilane; silane; silicon tetrachloride; chlorine trifluoride; diiodosilane; nitrogen trifluoride; anhydrous ammonia; potassium hydroxide in solid form; sulfur hexafluoride gas; tungsten hexafluoride; titanium tetrachloride; carbonyl sulfide; copper sulphate solution; potassium chloride electrode filling solution; cerium hydroxide; hydrogen peroxide; disilane; phosphine of copper; octane; ethyne (acetylene); trifluoromethane; halocarbon; difluoromethane; fluoromethane; octafluorocyclobutane; isopropyl alcohol; tert-butyl alcohol; hexachlorodisilane; 2-heptanone; cyclohexanone; cyclopentanone; sodium acetate; butyl acetate; propylene glycol monomethyl ether acetate; 2-methylamino)ethanol; tetramethylammonium hydroxide; tetraethylsilanediamine; di-iso-propylaminosilane; tetramethylsilane; trimethylaluminum; trimethylsilane; butyrolactone; potassium chloride; butoxyethanol; ethanolamine; lubrication; ammonium; cerium dioxide; tetraethylammonium hydroxide; soldering, brazing or welding powder; triethanolamine based solution; dimethyl sulfoxide; wafers polycrystalline silicon; cobalt based solution; diborane gas; ethylene glycol based solution; xenon and hydrogen mixture; melamine resin; ion exchanger resin; plastic case for semiconductor wafers; ethylene bags for packing; ammonium fluoride; plastic packing; plastic bottles; self-adhesive label; articles of glass, quartz reactor tubes; filtering machine for water purification; permanent metal magnets; central processing units (microprocessor); memory; cobalt sputtering target; copper sputtering target; tantalum sputtering target; titanium sputtering target; telecommunication connectors; electrical conductors for telecommunication; electrical conductors (low voltage cables); insulated electric conductors for voltage not exceeding 1,000 volts; copper electrical conductors; fitted electric conductors; electric conductors for voltage exceeding 1,000 volts; deuterium; hydrocarbon deposition solution; tantalum powder; tetrakis (methylethylamino) zirconium; 2-propanol, 1-methoxy, 2-aceetate based undercoat material; polyglycerol polymer based slurry; surfactant solution; hydroxyethanediphsphonic acid based wafer cleaning solution; acetic acid based slurry; amorphous silica based slurry; silica and phosphoric acid based slurry; photoresist; 4-morpholinecarbaldehyde based solution; nitrogen trifluoride; benzotriazole based cleaning solution; helium and nitrogen mixture; helium based compressed gas mixture; hydrogen and argon mixture; isobutyl propionate-based developer solution; methane and argon mixture; and, oxygen and helium mixture (duty rate ranges from duty-free to 6.5%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 18, 2026.

A copy of the notification will be available for public inspection in the “Online FTZ Information System” section of the Board's website.

For further information, contact Christopher Wedderburn at Chris.Wedderburn@trade.gov.

Dated: January 30, 2026.
Elizabeth Whiteman,
Executive Secretary.

[FR Doc. 2026-02376 Filed 2-5-26; 8:45 am]

BILLING CODE 3510-DS-P